FEDERAL RESERVE SYSTEM

Consumer Advisory Council

On January 3, 2003, the Federal Reserve Board named ten new members to its Consumer Advisory Council for three-year terms and designated a new Chair and Vice Chair of the Council for 2003.The Council advises the Board on the exercise of its responsibilities under the Consumer Credit Protection Act and on other matters in the area of consumer financial services. The Council meets three times a year in Washington, D.C.

Ronald Reiter was designated Chair; his term runs through December 2003. Mr. Reiter is Supervising Deputy Attorney General for the California Department of Justice.

Agnes Bundy Scanlan was designated Vice Chair; her term on the Council ends in December 2004. Ms. Scanlan is Managing Director and Chief Compliance Officer for FleetBoston Financial.

The ten new members are:

Susan Bredehoft

Cherry Hill, New Jersey

Ms. Bredehoft is Senior Vice President for Compliance Risk Management for Commerce Bancorp. She has responsibility for developing and implementing the compliance risk management program for consumer protection and disclosure regulations, privacy, fair lending, community reinvestment, and anti-money laundering regulations. Previously, Ms. Bredehoft was Senior Vice President and Director of Compliance for Summit Bancorp, where she managed the community reinvestment and compliance programs. She has spoken on community development, fair lending, compliance, and audit topics. Ms. Bredehoft is the Chair of the Finance and Audit Committee for the New Jersey Community Loan Fund, serves on the Compliance Committee of the New Jersey Banker's Association, and is a Trustee of St. Peter's College in Jersey City, N.J.

Dan Dixon

Washington, District of Columbia

Mr. Dixon is Group Senior Vice President and Director of Government Relations for World Savings Bank, FSB. During his career at World, his responsibilities have included mortgage loan origination and servicing, customer relations, regulatory compliance, and community outreach. In addition, Mr. Dixon serves on the Board of Neighborhood Housing Services of America, Inc. (NHSA), a national non-profit secondary mortgage market intermediary. For six years, he was Chairman of NHSA. At NHSA, he supported introduction of a new loan product for low-income borrowers with funding from the Federal Home Loan Bank Affordable Housing Program. Mr. Dixon previously served on the Board of East Bay Habitat for Humanity in Oakland, CA.

James Garner

Tampa, Florida

Mr. Garner is Senior Vice President and Associate General Counsel for Washington Mutual Inc., an organization providing consumer banking, mortgage lending, commercial banking, and consumer financial services. Mr. Garner leads a group of attorneys and manages the consumer finance company subsidiary's compliance department. He recently participated in the development of Responsible Mortgage Lending Principles for the organization and participates in the company's Fair Lending Steering and the Public Policy Issues Management committees. Mr. Garner also works on a pilot program to move subprime customers into the organization's prime lending segment and regularly meets with consumer advocate groups to discuss predatory lending and responsible lending practices. Mr. Garner chairs a subcommittee for the Law Committee of the American Financial Services Committee and is an officer and member of the Governing Committee on the Conference on Consumer Finance Law.

Charles Gatson

Kansas City, Missouri

Mr. Gatson is Vice President of Midtown Community Development Corporation doing business as Community Builders of Kansas City, an affiliate of Model Cities Health Corporation, an organization that provides innovative social, health-care, and community economic development services to the urban community. Mr. Gatson directs the corporation's community economic development efforts that include a $100 million urban revitalization program in Kansas City's urban core. The program includes a health-care facility, single and multi-family housing and an 85,000 square foot H & R Block customer service center in a predominantly African American community. Mr. Gatson is a member of many civic organizations, including the Urban League of Greater Kansas City, the Urban Land Institute's Inner City Advisor Coordinating Committee, and Fannie Mae's Housing Impact Advisory Committee. In 2002, he received the James A. Johnson Community Fellows Award from the Fannie Mae Foundation.

James King

Cincinnati, Ohio

Mr. King is President and Chief Executive Officer of the Community Redevelopment Group in Cincinnati. His responsibilities include administering the day-to-day operations of residential and commercial development and construction, marketing and management for two community development corporations, the Avondale Redevelopment Corporation and the Walnut Hills Redevelopment Foundation. Mr. King is a member of several community organizations including the City of Cincinnati Economic Development Task Force, the National Congress for Community Economic Development, and the Neighborhood Development Corporations Association of Cincinnati. He is also co-chair of Cincinnati CAN (Community Action Now) and a member of The Federal Home Loan Bank of Cincinnati Advisory Council and the Cincinnati Park Board Master Plan Advisory Committee. In 2001, Mr. King received the James A. Johnson Community Fellow award from the Fannie Mae Foundation.

Elsie Meeks

Kyle, South Dakota

Ms. Meeks is the Executive Director of First Nations Oweesta Corporation, a subsidiary corporation of First Nations Development Institute. The corporation focuses on enhancing the capacity of Native American tribes and communities by providing technical assistance and training for the development and expansion of Native American community development financial institutions. Previously, Ms. Meeks helped develop and was Executive Director of The Lakota Fund, which is a Native American community development financial institution on the Pine Ridge Indian Reservation in southwestern South Dakota, specializing in small business development and microenterprise development. Ms. Meeks is a board member of the National Community Capital Association, and, in 1994, received the “South Dakota Minority Small Business Advocate of the Year” award. She was appointed by Senate Majority Leader Tom Daschle to serve as the first Native American on the U.S. Commission on Civil Rights.

Mark Pinsky

Philadelphia, Pennsylvania

Mr. Pinsky is President and Chief Executive Officer of the National Community Capital Association, a leading network of community development financial institutions (CDFIs). He is responsible for the association's strategic direction and performance and has created new products including the Equity Equivalent Investment and the Virtual Learning Center. Mr. Pinsky is widely recognized as the voice of the CDFI industry and the leading advocate for a strong, performance-based CDFI Fund in the U.S. Department of Treasury. He has published and lectured extensively on CDFI's and the Community Reinvestment Act. In 2002, he provided the keynote address at the 3rd Annual UK Community Development Finance Conference in Scotland and spoke on “Lessons from the U.S. CDFI Industry.”

Benjamin Robinson

Charlotte, North Carolina

Mr. Robinson has been Senior Vice President, Strategy Management Executive, responsible for issues management, national alliances, and national programs for Bank of America since October 2002. Previously, he was Vice President and Chief Privacy Officer of MasterCard International, and President and Chief Executive Officer, MasterCard Cardholder Solutions, Inc. His responsibilities included overall management of MasterCard Cardholder Solutions, Inc. and managing and implementing privacy policies, regulations, and compliance for MasterCard International domestically and abroad. Mr. Robinson has also served as a congressional advisor on banking issues including the Community Reinvestment Act, Equal Credit Opportunity Act, Home Mortgage Disclosure Act, and Fair Housing Act for a subcommittee of the U.S. House of Representatives' Committee on Banking, Finance, and Urban Affairs.

Diane Thompson

East St. Louis, Illinois

Ms. Thompson is a Supervising Attorney for the Housing and Consumer Rights Unit at the Land of Lincoln Legal Assistance Foundation. She supervises consumer rights litigation and works with community organizations on affordable housing and community economic development. She also supervises comprehensive homeless advocacy and homeless prevention projects in one of the poorest and most economically depressed cities in the country. She has expertise in the Truthin-Lending and Home Ownership and Equity Protection Acts and is an experienced anti-predatory lending advocate and litigator in the St. Louis area. Mrs. Thompson is involved in several community activities, including the Metropolitan St. Louis Equal Housing Opportunity Council and Project Kids, Inc.

Clint Walker

Wilmington, Delaware

Mr. Walker is the General Counsel and Chief Administrative Officer of Juniper Financial Corporation, established in 2000. Mr. Walker is part of the founding team of the credit card bank which is based on the concept of applying the best practices of a traditional credit card business with the best aspects of electronic banking to create an innovative and improved customer experience. His responsibilities include legal, compliance, regulatory and legislative activities, the Community Reinvestment Act, and community affairs. Prior to his position at Juniper, Mr. Walker was General Counsel at both First USA Bank, N.A. and Citibank Maryland. He has extensive experience in both the credit card industry and emerging e-commerce financial applications.

Council members whose terms continue through 2003 are:

Anthony Abbate

President and Chief Executive Officer

Interchange Bank

Saddle Brook, New Jersey

Manuel Casanova, Jr.

Executive Vice President

International Bank of Commerce

Brownsville, Texas

Constance K. Chamberlin

President and Chief Executive Officer

Housing Opportunities Made Equal

Richmond, Virginia

Earl Jarolimek

Vice President/CorporateCompliance Officer

Community First Bankshares

Fargo, North Dakota

J. Patrick Liddy

Director of Compliance

Fifth Third Bancorp

Cincinnati, Ohio

Oscar Marquis

Attorney

Hunton and Williams

Park Ridge, Illinois

Elizabeth Renuart

Staff Attorney

National Consumer Law Center

Boston, Massachusetts

Council members whose terms continue through 2004 are:

Janie Barrera

President and Chief Executive Officer

ACCION Texas

San Antonio, Texas

Ken P. Bordelon

Chief Executive Officer

E Federal Credit Union

Baton Rouge, Louisiana

Robin Coffey

Vice President

Harris Trust and Savings Bank

Chicago, Illinois

Thomas FitzGibbon

Senior Vice President

MB Financial Bank, N.A.

Chicago, Illinois

Larry Hawkins

President and Chief Executive Officer

Unity National Bank

Houston, Texas

Ruhi Maker

Senior Attorney

Public Interest

Law Office of Rochester

Rochester, New York

Patricia McCoy

Professor of Law

Department of Economics

Massachusetts Institute of Technology

Cambridge, Massachusetts

Debra S. Reyes

President

Neighborhood lending Partners, Inc.

Tampa, Florida

Benson Roberts

Vice President for Policy

Local Initiatives Support Corporation

Washington, District of Columbia

Hubert Van Tol

Co-Director

Fairness in Rural Lending

Sparta, Wisconsin

Board of Governors of the Federal Reserve System, January 8, 2003.
Jennifer J. Johnson,
Secretary of the Board.

[FR Doc. 03-671 Filed 1-13-03; 8:45 am]

BILLING CODE 6210-01-S